DEPARTMENT OF COMMERCE

International Trade Administration

[A-489-501]

Circular Welded Carbon Steel Standard Pipe and Tube Products From Turkey: Final Results of Antidumping Duty Administrative Review and Final Determination of No Shipments; 2020-2021

AGENCY: Enforcement and Compliance, International Trade Administration, Department of Commerce.

SUMMARY: The Department of Commerce (Commerce) determines that sales of circular welded carbon steel standard pipe and tube products from Turkey were made at less than normal value (NV) during the period of review (POR) May 1, 2020, through April 30, 2021.

DATES: Applicable December 9, 2022.

FOR FURTHER INFORMATION CONTACT: Magd Zalok, AD/CVD Operations, Office IV, Enforcement and Compliance, International Trade Administration, Department of Commerce, 1401 Constitution Avenue NW, Washington, DC 20230; telephone: (202) 482-4162.

SUPPLEMENTARY INFORMATION:

Background

On June 6, 2022, Commerce published the Preliminary Results and invited interested parties to comment.¹ These final results cover 20 companies for which an administrative review was initiated and not rescinded. The sole mandatory respondent in this administrative review is Borusan Mannesmann Boru Sanayi ve Ticaret A.S. (Borusan Mannesmann) and Borusan Istikbal Ticaret T.A.S. (Istikbal) (collectively, Borusan).² The producers/exporters not selected for individual examination are listed in the “Final Results of the Review” section of this notice. On July 6, 2022, Borusan and Wheatland Tube Company (Wheatland), the petitioner, submitted case briefs.³ On July 13, 2022, Borusan and Wheatland submitted their rebuttal briefs.⁴ On September 20, 2022, we extended the deadline for the final results by 59 days to December 2, 2022.⁵ Commerce conducted this review in accordance with section 751(a)(1)(B) of the Tariff Act of 1930, as amended (the Act).

¹ See Circular Welded Carbon Steel Standard Pipe and Tube Products from Turkey: Preliminary Results of Antidumping Duty Administrative Review and Preliminary Determination of No Shipments; 2020-2021, 87 FR 34242 (June 6, 2022) (Preliminary Results).

² See Memorandum, “Respondent Selection,” dated August 11, 2021.

³ See Borusan's Letter, “BMB's Case Brief,” dated July 6, 2022 (Borusan's Case Brief); see also Wheatland's Letter, “Case Brief,” dated July 6, 2022 (Wheatland's Case Brief); and Nucor Tubular Products Inc.'s (Nucor Tubular) Letter, “Case Brief,” dated July 6, 2022. Nucor Tubular is a domestic producer and interested party under 19 U.S.C. 1677(9)(C). Its letter concurs with and adopts by reference the arguments set forth in Wheatland's Case Brief.

⁴ See Borusan's Letter, “BMB's Rebuttal Brief,” dated July 13, 2022 (Borusan's Rebuttal Brief); see also Wheatland's Letter, “Rebuttal Brief,” dated July 13, 2022 (Wheatland's Rebuttal Brief); and Nucor Tubular's Letter, “Rebuttal Brief,” dated July 13, 2022, in which Nucor Tubular states that it concurs with and adopts by reference the arguments set forth in Wheatland's Rebuttal Brief.

⁵ See Memorandum, “Extension of Deadline for Final Results of Antidumping Duty Administrative Review; 2020-2021,” dated September 20, 2022.

Scope of the Order ⁶

⁶ See Antidumping Duty Order; Welded Carbon Steel Standard Pipe and Tube Products from Turkey, 51 FR 17784 (May 15, 1986) (Order).

The scope of the Order covers circular welded carbon steel standard pipe and tube products from Turkey. A full description of the scope of the Order is contained in the Issues and Decision Memorandum.⁷

⁷ See Memorandum, “Issues and Decisions Memorandum for the Final Results of the Antidumping Duty Administrative Review: Circular Welded Carbon Steel Standard Pipe and Tube Products from Turkey; 2020-2021,” dated concurrently with, and hereby adopted by, this notice (Issues and Decision Memorandum).

Analysis of Comments Received

All issues raised in the case and rebuttal briefs filed by parties in this review are addressed in the Issues and Decision Memorandum. A list of the issues addressed in the Issues and Decision Memorandum is in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

Changes Since the Preliminary Results

Based on our analysis of the comments received, and for the reasons explained in the Issues and Decision Memorandum, we made certain changes from the Preliminary Results.

Determination of No Shipments

In the Preliminary Results, we found that the following 13 companies made no shipments of the subject merchandise to the United States during the POR: (1) Toscelik Profil ve Sac Endustrisi A.S.; (2) Tosyali Dis Ticaret A.S.; (3) Toscelik Metal Ticaret A.S.; (4) Cayirova Boru Sanayi ve Ticaret A.S.;(5) Yucel Boru ve Profil Endustrisi A.S.; (6) Yucelboru Ihracat ve Pazarlama A.S.; (7) Cinar Boru Profil San. Ve Tic. AS; (8) Erbosan Erciyas Boru Sanayi ve Ticaret A.S.; (9) Borusan Birlesik Boru Fabrikalari San ve Tic; (10) Borusan Gemlik Boru Tesisleri A.S.; (11) Borusan Ihracat Ithalat ve Dagitim A.S.; (12) Tubeco Pipe and Steel Corporation; (13) and Borusan Ithicat ve Dagitim A.S. No parties commented on this determination.⁸ For the final results of review, we continue to find that these companies made no shipments of subject merchandise to the United States during the POR.

⁸ One of the companies that filed a no-shipments claim, Toscelik Spiral Boru Uretim A.S. (Toscelik Uretim), is not subject to this review and has voluntarily submitted a no-shipment certification via Toscelik Profil's No-Shipment Certification Letter. However, as explained in the Preliminary Results, because this company is not subject to this review (i.e., no party requested a review of Toscelik Uretim), we have not evaluated its no-shipments claim.

With respect to Istikbal, one of the companies that certified no shipments during the POR, we continue to find Istikbal to be part of the single entity, Borusan, and we find no record evidence that warrants altering this treatment. Therefore, because we find that Borusan had shipments during this POR, we have not made a determination of no shipments with respect to Istikbal.

Rate for Non-Selected Respondents

For the rate for non-selected respondents in an administrative review, generally, Commerce looks to section 735(c)(5) of the Act, which provides instructions for calculating the all-others rate in a market economy investigation, for guidance. Under section 735(c)(5)(A) of the Act, the all-others rate is normally “an amount equal to the weighted-average of the estimated weighted-average dumping margins established for exporters and producers individually investigated, excluding any zero or de minimis margins, and any margins determined entirely {on the basis of facts available}.” In this segment of the proceeding, we calculated a margin for Borusan that was not zero, de minimis, or based on facts available. Accordingly, we have applied the margin calculated for Borusan to the non-individually examined respondents.

Final Results of Review

For these final results, we determine that the following weighted-average dumping margins exist for the period May 1, 2020, through April 30, 2021:

Exporter/manufacturer | Weighted- average dumping margin (percent)
Borusan Mannesmann Boru Sanayi ve Ticaret A.S./Borusan Istikbal Ticaret T.A.S | 15.56
Rate Applicable to the Following Non-Selected Companies
Borusan Holding | 15.56
Borusan Mannesmann Yatirim Holding | 15.56
Kale Baglanti Teknolojileri San. ve Tic. A.S | 15.56
Kale Baglann Teknolojileri San. Ve Tic. A.S | 15.56
Noksel Celik Boru Sanayi A.S | 15.56

Disclosure

Commerce intends to disclose the calculations performed in connection with these final results of review to parties in this review within five days after public announcement of the final results or, if there is no public announcement, within five days of the date of publication of this notice in the Federal Register, in accordance with 19 CFR 351.224(b).

Assessment Rates

Commerce shall determine and U.S. Customs and Border Protection (CBP) shall assess antidumping duties on all appropriate entries of subject merchandise in accordance with the final results of this review. For Borusan, we calculated importer-specific assessment rates on the basis of the ratio of the total amount of dumping calculated for each importer's examined sales and the total entered value of those sales in accordance with 19 CFR 351.212(b)(1). Where an importer-specific assessment rate is de minimis (i.e., less than 0.5 percent), the entries by that importer will be liquidated without regard to antidumping duties. For entries of subject merchandise during the POR produced by Borusan for which it did not know its merchandise was destined for the United States, we will instruct CBP to liquidate unreviewed entries at the all-others rate if there is no rate for the intermediate company(ies) involved in the transaction.⁹ For the companies identified above that were not selected for individual examination, we will instruct CBP to liquidate entries at the rates established in these final results of review.

⁹ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements for estimated antidumping duties will be effective upon publication of this notice for all shipments of circular welded carbon steel standard pipe and tube products from Turkey entered, or withdrawn from warehouse, for consumption on or after the date of publication as provided by section 751(a)(2) of the Act: (1) the cash deposit rate for the companies subject to this review will be equal to the company-specific weighted-average dumping margin established in the final results of the review; (2) for merchandise exported by producers or exporters not covered in this review but covered in a prior completed segment of the proceeding, the cash deposit rate will continue to be the company-specific rate published in the completed segment for the most recent period; (3) if the exporter is not a firm covered in this review, a prior review, or the original investigation, but the producer has been covered in a prior completed segment of this proceeding, then the cash deposit rate will be the rate established in the completed segment for the most recent period for the producer of the merchandise; (4) the cash deposit rate for all other producers or exporters will continue to be 14.74 percent, the all-others rate established in the less-than-fair-value investigation of this proceeding.¹⁰ These cash deposit requirements, when imposed, shall remain in effect until further notice.

¹⁰ See Order, 51 FR 17784.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties Regarding Administrative Protective Order

This notice also serves as a reminder to parties subject to administrative protective order (APO) of their responsibility concerning the destruction or return of proprietary information disclosed under APO in accordance with 19 CFR 351.305(a)(3), which continues to govern business proprietary information in this segment of the proceeding. Timely written notification of the destruction or return of APO materials or conversion to judicial protective order is hereby requested. Failure to comply with the regulations and terms of an APO is a sanctionable violation.

We are issuing and publishing this notice in accordance with sections 751(a)(1) and 777(i)(1) of the Act and 19 CFR 351.221(b)(5).

Dated: December 2, 2022.
Lisa W. Wang,
Assistant Secretary for Enforcement and Compliance.

Appendix

List of Topics Discussed in the Issues and Decision Memorandum

I. Summary

II. Background

III. Scope of the Order

IV. Changes Since the Preliminary Results

V. Discussion of the Issues

Comment 1: Particular Market Situation

Comment 2: Section 232 Duties

Comment 3: Differential Pricing

Comment 4: Allocation of Indirect Selling Expenses

Comment 5: Correction of Errors

VI. Recommendation

[FR Doc. 2022-26746 Filed 12-8-22; 8:45 am]

BILLING CODE 3510-DS-P